DEPARTMENT OF COMMERCE

National Oceanic and Atmospheric Administration

[RTID 0648-XE726]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Program Planning Standing Committee (SC), Pelagic and International SC, Executive and Budget SC, and its 202nd Council meeting to take actions on fishery management issues in the Western Pacific Region.

DATES: The meetings will be held between March 24 and March 27, 2025. For specific times and agendas, see SUPPLEMENTARY INFORMATION.

ADDRESSES: The Program Planning SC, Pelagic and International SC, Executive and Budget SC, and 202nd Council meetings will be held as a hybrid meeting for members and the public, with a remote participation option available via Webex. In-person attendance for the Program Planning SC, Pelagic and International SC, Executive and Budget SC meetings will be hosted at the Council office, 1164 Bishop Street, Suite 1400, Honolulu, HI 96813. In-person attendance for the 202nd Council Meeting will be hosted at the Coral Ballroom, Hilton Hawaiian Village Resort and Hotel, Honolulu, HI 96815.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The Program Planning SC meeting will be held between 8:30 a.m. and 10 a.m. Hawaii Standard Time (HST) on March 24, 2025. The Pelagic and International SC from 10:30 a.m. to 12 p.m. HST on March 24, 2025. The Executive and Budget SC meeting will be held between 2 p.m. and 5 p.m. HST on March 24, 2025. The 202nd Council Meeting will be held between 9 a.m. and 5 p.m. HST on March 25, 2025, between 8:30 a.m. and 5 p.m. on March 26, 2025 and between 9 a.m. and 12 p.m. on March 27, 2025. Public Comment on Non-Agenda Items will be held between 4:30 p.m. and 5 p.m. HST on March 25, 2025.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 202nd Council meeting will be available at www.wpcouncil.org. Written public comments on final action items at the 202nd Council meeting should be received at the Council office by 5 p.m. HST, Thursday, March 20, 2025, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting. As public comments will be made publicly available, participants and public commenters are urged not to provide personally identifiable information (PII) at this meeting. Participation in the meeting by web conference, or by telephone, constitutes consent to the audio recording.

Agenda for the Program Planning SC Meeting

Monday, March 24, 2025, 8:30 a.m. to 10 a.m. HST

1. Introductions and Approval of Agenda

2. Status of National Marine Sanctuaries

A. Fishing Regulations for the Papahānaumokuākea National Marine Sanctuary Final Rule

B. Other Sanctuary Updates

3. Legislative Report

4. American Samoa Bottomfish Management Unit Species (BMUS) Revision

5. Inclusion of a Tier 6 Acceptable Biological Catch Control (ABC) Rule in the Fishery Ecosystem Plans (FEP)

6. Annual Catch Limit (ACL) Specifications

A. Main Hawaiian Islands (MHI) Uku

B. MHI Deepwater Shrimp and Precious Corals

7. Status of Executive Orders (EOs)

8. Other Business

9. Public Comment

10. Discussion and Recommendations

Agenda for the Pelagic and International SC Meeting

Monday, March 24, 2025, 10:30 a.m. to 12 p.m. HST

1. Introductions and Approval of Agenda

2. North Pacific Striped Marlin Catch Limits (Action Item)

3. Update on Implementing an Electronic Monitoring (EM) Program

A. Update on Amendment Development

B. Status of Pacific Islands Regional Observer Program

C. EM Sampling Strategy and Planning

D. Socioeconomic Analyses

E. EM Discussion and Critical Decision Points

4. Status of Executive Orders Affecting International Fisheries

5. Other Business

6. Public Comment

7. Discussion and Recommendations

Agenda for the Executive and Budget SC Meeting

Monday, March 24, 2025, 2 p.m. to 5 p.m. HST

1. Introductions and Approval of Agenda

2. Financial Reports

3. Administrative Reports

4. Report on Inflation Reduction Act (IRA) Program

5. Council Coordination Committee Report

6. Council Family Changes

7. South Pacific Regional Fishery Management Organization Commissioner

8. Meetings and Workshops

9. Status of EOs

10. Other Business

11. Public Comment

12. Discussion and Recommendations

Agenda for the 202nd Council Meeting

Tuesday, March 25, 2025, 9 a.m. to 5 p.m. HST

1. Welcome and Introductions

2. Approval of the 202nd Council Meeting (CM) Agenda

3. Approval of the 201st CM Meeting Minutes

4. Executive Director's Report

5. Agency Reports

A. National Marine Fisheries Service (NMFS)

A.1. Pacific Islands Regional Office (PIRO)

A.2. Pacific Islands Fisheries Science Center (PIFSC)

B. NOAA Office of General Counsel Pacific Islands Section

C. U.S. Coast Guard (USCG)

D. Enforcement

D.1. NOAA Office of Law Enforcement

D.2. NOAA Office of General Counsel Enforcement Section

E. U.S. State Department

F. U.S. Fish and Wildlife Service (FWS)

G. Public Comment

H. Council Discussion and Action

6. Pelagic and International

A. Status Report on the Regulatory Implementation Approach for the Hawaii and American Samoa Longline Crew Training

B. Revisions to the Longline Biological Opinions Terms and Conditions

C. North Pacific Striped Marlin Catch Limit (Final Action)

D. EM

D.1. Update on EM Amendment Development

D.2. Status of Hawaii and American Samoa Longline Observer Program

D.3. EM Sampling Strategy and Planning

D.4. Socioeconomic Impact Analysis

D.5. EM Discussion on Critical Decision Points

E. Advisory Group Report and Recommendations

E.1. Advisory Panels

E.2. Joint Plan Team

E.3. Scientific and Statistical Committee

E.4. Fishery Data Collection and Research Committee

F. Public Comment

G. Council Discussion and Action

7. Hawaii Archipelago

A. Moku Pepa

B. Hawaii Division of Aquatic Resources (DAR)

C. ACL Specifications

C.1. MHI Uku (Initial Action)

C.2. MHI Deepwater Shrimp and Precious Corals (Final Action)

D. Fishing Regulations for the Papahānaumokuākea National Marine Sanctuary Final Rule

E. Advisory Group Report and Recommendations

E.1. Advisory Panels

E.2. Joint Plan Team

E.3. Fishing Industry Advisory Committee

E.4. Scientific and Statistical Committee

F. Public Comments

G. Council Discussion and Action

Public Comment on Non-Agenda Items

Wednesday, March 26, 2025, 8:30 a.m. to 5 p.m. HST

8. Program Planning and Research

A. Legislative Report

B. Status of EOs

C. Inclusion of a Tier 6 ABC Control Rule in the FEPs (Final Action)

D. Status of Western Pacific National Marine Sanctuaries

E. Report on IRA Program Projects

F. Report on Status of Territorial Fishery Management Plans (FMPs)

F.1. AS Department of Marine and Wildlife Resources (DMWR)

F.2. Guam Department of Agriculture (DoAg)

F.3. CNMI Department of Land and Natural Resources (DLNR)

G. Council Education and Outreach Report

H. Advisory Group Report and Recommendations

H.1. Advisory Panels

H.2. Joint Plan Team

H.3. Fishing Industry Advisory Committee

H.4. Scientific and Statistical Committee

I. Public Comments

J. Council Discussion and Action

9. Mariana Archipelago

A. Guam

A.1. Isla Informe

A.2. DoAg/Division of Aquatic and Wildlife Resources

A.3. Bureau of Ocean Energy Management's Guam Offshore Wind Call for Information

B. CNMI

B.1. Arongol Falu

B.2. DLNR/Division of Fish and Wildlife

B.3. CNMI Bottomfish Assessment Terms of Reference

C. Advisory Group Report and Recommendations

C.1. Advisory Panels

C.2. Joint Plan Team

C.3. Fishing Industry Advisory Committee

C.4. Scientific and Statistical Committee

D. Public Comments

E. Council Discussion and Action

I. Public Comment

J. Council Discussion and Action

Thursday, March 27, 2025, 9 a.m. to 12 p.m. HST

10. American Samoa Archipelago

A. Moti Lipoti

B. AS DMWR Report

C. Revision to the American Samoa Bottomfish Management Unit Species (Final Action)

D. Advisory Group Report and Recommendations

D.1. Advisory Panels

D.2. Joint Plan Team

D.3. Fishing Industry Advisory Committee

D.4. Scientific and Statistical Committee

E. Public Comments

F. Council Discussion and Action

11. Administrative Matters

A. Financial Reports

B. Administrative Reports

C. Council Family Changes

D. Standard Operating Procedures and Policies Changes

E. Meetings and Workshops

F. Executive and Budget SC Report

G. Public Comment

H. Discussion and Action

12. Other Business

Non-emergency issues not contained in this agenda may come before the Council for discussion during its 202nd meeting. However, Council final decisions will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: March 3, 2025.
Rey Israel Marquez,
Acting Deputy Director, Office of Sustainable Fisheries, National Marine Fisheries Service.

[FR Doc. 2025-03643 Filed 3-6-25; 8:45 am]

BILLING CODE 3510-22-P